DEPARTMENT OF COMMERCE

National Oceanic and Atmospheric Administration

[RTID 0648-XA068]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet in Anchorage, AK.

DATES: The meetings will be held March 30, 2020 through April 6, 2020. See SUPPLEMENTARY INFORMATION for specific dates and times.

ADDRESSES: The meeting will be held at the Anchorage Hilton Hotel, 500 W 3rd Ave., Anchorage, AK 99501.

Council address: North Pacific Fishery Management Council, 1007 West Third, Suite 400, Anchorage, AK 99501-2252; telephone (907) 271-2809.

FOR FURTHER INFORMATION CONTACT: Diana Evans, Council staff; telephone: (907) 271-2809.

SUPPLEMENTARY INFORMATION: Council will begin its plenary session at 8 a.m. in the Aleutian Room on Wednesday, April 1, 2020 continuing through Monday, April 6, 2020. The Council's Scientific and Statistical Committee (SSC) will begin at 8 a.m. in the King Salmon/Iliamna Room on Monday, March 30, 2020 and continue through Wednesday, April 1, 2020. The Council's Advisory Panel (AP) will begin at 8 a.m. in the Dillingham/Katmai Room on Tuesday, March 31, 2020 and continue through Friday, April 3, 2020. The IFQ Committee will meet on Monday, March 30, 2020 from 10 a.m. to 5 p.m. (room TBD). The Cook Inlet Salmon Committee will meet on Monday, March 30, 2020 from 9:30 a.m. to 5 p.m. (room TBD). The Ecosystem Committee will meet on Tuesday, March 31, 2020 from 8 a.m. to 5 p.m. (room TBD).

Agenda

Monday, March 30, 2020 Through Monday, April 6, 2020

Council Plenary Session: The agenda for the Council's plenary session will include the following issues. The Council may take appropriate action on any of the issues identified.

(1) Executive Director's Report

(2) NMFS Management Report

(3) NOAA GC Report

(4) ADF&G Report

(5) USCG Report

(6) USFWS Report

(7) IPHC Report

(8) NIOSH Report

(9) St Matthew BKC Rebuilding Plan—Final Action

(10) Scallop SAFE Report—ABC/OFL specifications, Scallop Plan Team Report

(11) BSAI Pacific Cod Pot CP analysis—Initial Review

(12) Cook Inlet Salmon FMP Amendment—Preliminary Review, CISC Report

(13) Sculpin/Squid Product Types—Final Action

(14) EFH: (a) Non-fishing consultations; (b) 5-year review workplan

(15) Cooperative Reports (AFA, A80, CGOA Rockfish, BSAI Crab)

(16) Salmon Bycatch: (a) 2018 Chinook/Chum Genetics for BS and GOA, IPA Reports

(17) GOA Sablefish Pots 3-year Review—Report

(18) Sablefish alternative apportionments for stock assessment—Report

(19) IFQ Access—Expanded Discussion Paper

(20) IFQ Committee—Report

(21) Bering Sea Fishery Ecosystem Plan—Plan Team, Climate Change Taskforce Reports

(22) Research Priorities—Review

(23) Staff Tasking

The Advisory Panel will address Council agenda items (9) through (14) and items (16) through (23).

The SSC agenda will include the following issues:

(1) Scallop SAFE Report—ABC/OFL specifications, Scallop Plan Team Report

(2) BSAI Pacific Cod Pot CP analysis—Initial Review

(3) Cook Inlet Salmon FMP Amendment—Preliminary Review

(4) EFH 5-year review workplan

(5) Salmon Bycatch: (a) 2018 Chinook/Chum Genetics for BS and GOA

(6) GOA Sablefish Pots 3-year Review—Report

(7) Sablefish alternative apportionments for stock assessment

(8) Bering Sea Fishery Ecosystem Plan—Plan Team, Climate Change Taskforce Reports

(9) Research Priorities—Review

(10) Marine Mammal Conservation Status—Review

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The IFQ Committee will review a discussion paper on a potential access program for halibut and sablefish IFQ, provide feedback on a Three-Year Review of the Gulf of Alaska pot longline fishery for IFQ sablefish, receive a NMFS report on IFQ cost recovery fees, and receive an update on analyses of potential methodologies to modify the apportionment of sablefish ABC across management areas, and other business. The Cook Inlet Salmon Committee will finalize recommendations for the Council on the preliminary Cook Inlet Salmon FMP amendment, and discuss other business. The Ecosystem Committee will discuss northern fur seal co-management, an update on the Bering Sea Fishery Ecosystem Plan, 2019 Essential Fish Habitat consultations, Council involvement in non-fishing EFH consultations, and proposed approach for the 2022 EFH review and revision, and other business. The Agendas are subject to change, and the latest versions will be available at https://meetings.npfmc.org/Meeting/Details/1363.

Public Comment

Public comment letters will be accepted and should be submitted either electronically at: https://meetings.npfmc.org/Meeting/Details/1363 or through the mail: North Pacific Fishery Management Council, 1007 West Third, Suite 400, Anchorage, AK 99501-2252. Deadline for comments is March 27, 2020, at 12 p.m.

Special Accommodations

These meetings are physically accessible to people with disabilities. Requests for sign language interpretation or other auxiliary aids should be directed to Shannon Gleason at (907) 271-2809 at least 7 working days prior to the meeting date.

Authority: 16 U.S.C. 1801 et seq.

Dated: March 3, 2020.
Tracey L. Thompson,
Acting Deputy Director, Office of Sustainable Fisheries, National Marine Fisheries Service.

[FR Doc. 2020-04645 Filed 3-5-20; 8:45 am]

BILLING CODE 3510-22-P